DEPARTMENT OF TRANSPORTATION

Federal Aviation Administration

14 CFR Part 39

[Docket No. FAA-2016-6146; Directorate Identifier 2014-NM-120-AD]

RIN 2120-AA64

Airworthiness Directives; Dassault Aviation Airplanes

AGENCY: Federal Aviation Administration (FAA), DOT.

ACTION: Notice of proposed rulemaking (NPRM).

SUMMARY: We propose to supersede Airworthiness Directive (AD) 2008-19-08, for all Dassault Aviation Model Falcon 10 airplanes. AD 2008-19-08 currently requires repetitive replacement of the flexible hoses installed in the wing (slat) anti-icing system with new hoses. Since we issued AD 2008-19-08, additional reports were received of collapse of the flexible hoses installed in the slat anti-icing systems on airplanes equipped with new, improved hoses. This proposed AD would require reducing the life limit of these flexible hoses, which would reduce the repetitive replacement intervals. We are proposing this AD to prevent collapse of the flexible hoses in the slat anti-icing system, which could lead to insufficient anti-icing capability and, if icing is encountered in this situation, could result in reduced controllability of the airplane.

DATES: We must receive comments on this proposed AD by June 17, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov by searching for and locating Docket No. FAA-2016-6146; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, FAA, Transport Airplane Directorate, 1601 Lind Avenue SW., Renton, WA 98057-3356; telephone 425-227-1137; fax 425-227-1149.

SUPPLEMENTARY INFORMATION:

Comments Invited

We invite you to send any written relevant data, views, or arguments about this proposed AD. Send your comments to an address listed under the ADDRESSES section. Include “Docket No. FAA-2016-6146; Directorate Identifier 2014-NM-120-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 12, 2008, we issued AD 2008-19-08, Amendment 39-15675 (73 FR 54492, September 22, 2008) (“AD 2008-19-08”). AD 2008-19-08 requires actions intended to address an unsafe condition on all Dassault Aviation Model Falcon 10 airplanes.

Since we issued AD 2008-19-08, additional reports were received of collapse of the flexible hoses installed in the slat anti-icing systems on airplanes equipped with new, improved hoses.

The European Aviation Safety Agency (EASA), which is the Technical Agent for the Member States of the European Union, has issued EASA Airworthiness Directive 2014-0104, dated May 7, 2014 (referred to after this as the Mandatory Continuing Airworthiness Information, or “the MCAI”), to correct an unsafe condition on all Dassault Aviation Model Falcon 10 airplanes. The MCAI states:

Occurrences were reported involving an in-service Falcon 10 aeroplane, where wing anti-ice hoses collapsed. The subsequent investigation revealed that the flexible hose, Part Number (P/N) FAL1005, collapsed because of an internal ply separation.

This condition, if not corrected, could lead to failure of the ice-protection system to remove ice accretion on the wing, possibly resulting in reduced control of the aeroplane.

To address this potential unsafe condition, EASA issued AD 2005-0020 and AD 2006-0114 [which corresponds to AD 2008-19-08], respectively, imposing flight limitations and requiring replacement of the flexible hoses P/N FAL1005 with improved hoses P/N FAL1007.

Since those [EASA] ADs were issued, further occurrences were reported concerning aeroplanes with improved hoses, which led to the conclusion that the life limit of the flexible hose P/N FAL1007 must be reduced.

For the reasons above, this [EASA] AD retains the requirements of EASA AD 2006-0114, which is superseded; supersedes EASA AD 2005-0020; requires replacement of flexible hoses having P/N FAL 1000, P/N 1001, P/N FAL1005, or P/N FAL1005D, and reduces the life limit of the flexible hoses P/N 1007 [which would reduce the repetitive replacement intervals].

You may examine the MCAI in the AD docket on the Internet at http://www.regulations.gov by searching for and locating Docket No. FAA-2016-6146.

FAA's Determination and Requirements of This Proposed AD

This product has been approved by the aviation authority of another country, and is approved for operation in the United States. Pursuant to our bilateral agreement with the State of Design Authority, we have been notified of the unsafe condition described in the MCAI. We are proposing this AD because we evaluated all pertinent information and determined an unsafe condition exists and is likely to exist or develop on other products of the same type design.

Costs of Compliance

We estimate that this proposed AD affects 124 airplanes of U.S. registry.

The actions that are required by AD 2008-19-08 and retained in this proposed AD take about 8 work-hours per product, at an average labor rate of $85 per work-hour. Required parts cost about $880. Based on these figures, the estimated cost of the actions that are required by AD 2008-19-08 is up to $1,560, per replacement cycle.

We also estimate that it would take about 4 work-hours per product to comply with the basic requirements of this proposed AD. The average labor rate is $85 per work-hour. Required parts would cost about $936 per product. Based on these figures, we estimate the cost of this proposed AD on U.S. operators to be $158,224, or $1,276 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-19-08, Amendment 39-15675 (73 FR 54492, September 22, 2008), and adding the following new AD:

Dassault Aviation: Docket No. FAA-2016-6146; Directorate Identifier 2014-NM-120-AD.

(a) Comments Due Date

We must receive comments by June 17, 2016.

(b) Affected ADs

This AD replaces AD 2008-19-08, Amendment 39-15675 (73 FR 54492, September 22, 2008) (“AD 2008-19-08”).

(c) Applicability

This AD applies to all Dassault Aviation Model Falcon 10 airplanes, certificated in any category.

(d) Subject

Air Transport Association (ATA) of America Code 30, Ice and Rain Protection.

(e) Reason

This AD was prompted by reports of collapse of the flexible hoses installed in the slat anti-icing systems on airplanes equipped with new, improved hoses. We are issuing this AD to prevent collapse of the flexible hoses in the slat anti-icing system, which could lead to insufficient anti-icing capability and, if icing is encountered in this situation, could result in reduced controllability of the airplane.

(f) Compliance

Comply with this AD within the compliance times specified, unless already done.

(g) Retained Repetitive Hose Replacement With Revised Compliance Language

This paragraph restates the requirements of paragraph (h) of AD 2008-19-08, with revised compliance language. As of October 27, 2008 (the effective date of AD 2008-19-08), replace the flexible hoses installed in the slat anti-icing system with new hoses having part number (P/N) FAL1007, in accordance with the Accomplishment Instructions of Dassault Service Bulletin F10-313, Revision 1, dated May 10, 2006, within 700 flight hours since the last replacement or within 100 flight hours after October 27, 2008, whichever occurs later, and thereafter at intervals not to exceed 700 flight hours. Accomplishing the replacement required by paragraph (h) of this AD ends the repetitive inspections required by this paragraph.

(h) New Requirement of This AD: Hose Replacement for Certain Part Numbers

Within 65 days after the effective date of this AD: Replace any flexible hose having part number (P/N) FAL1000, P/N FAL1001, or P/N FAL1005D with a new, improved flexible hose having P/N FAL1007, using a method approved by the Manager, International Branch, ANM-116, Transport Airplane Directorate, FAA; or the European Aviation Safety Agency (EASA); or Dassault Aviation's EASA Design Organization Approval (DOA).

(i) Life-limit for P/N FAL1007—Repetitive Replacements

At the later of the times specified in paragraphs (i)(1) and (i)(2) of this AD, replace any flexible hose having part number P/N FAL1007 with a serviceable flexible hose having P/N FAL1007, using a method approved by the Manager, International Branch, ANM-116, Transport Airplane Directorate, FAA; or EASA; or Dassault Aviation's EASA DOA. Thereafter, before the accumulation of 350 flight hours on any flexible hose having P/N FAL1007, replace the flexible hose with a serviceable flexible hose having P/N FAL1007.

(1) Before the accumulation of 350 flight hours on the flexible hose P/N FAL1007 since first installation on an airplane.

(2) At the earlier of the times specified in (i)(2)(i) and (i)(2)(ii) of this AD.

(i) Within 200 flight hours after the effective date of this AD.

(ii) Before the accumulation of 700 flight hours on the flexible hose P/N FAL1007 since first installation on an airplane, or within 65 days after the effective date of this AD, whichever occurs later.

(j) Definition of Serviceable Flexible Hose

For the purpose of this AD, a serviceable flexible hose is a flexible hose having P/N FAL1007 that has accumulated 350 flight hours or less since first installation on an airplane.

(k) Parts Installation Limitation

After accomplishing the replacement required by paragraph (h) of this AD, no person may install a flexible hose in the slat anti-icing system on any airplane, unless that hose is a serviceable flexible hose having P/N FAL1007, and thereafter repetitive hose replacements are done as required by paragraph (i) of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Dassault Aviation's EASA DOA. If approved by the DOA, the approval must include the DOA-authorized signature.

(m) Related Information

Refer to Mandatory Continuing Airworthiness Information (MCAI) EASA Airworthiness Directive 2014-0104, dated May 7, 2014, for related information. This MCAI may be found in the AD docket on the Internet at http://www.regulations.gov by searching for and locating Docket No. FAA-2016-6146.

Issued in Renton, Washington, on April 20, 2016.
John P. Piccola, Jr.,
Acting Manager, Transport Airplane Directorate, Aircraft Certification Service.

[FR Doc. 2016-10124 Filed 5-2-16; 8:45 am]

BILLING CODE 4910-13-P